DEPARTMENT OF VETERANS AFFAIRS

Staff Sergeant Fox Suicide Prevention Grant Program Funding Opportunity

AGENCY: Department of Veterans Affairs (VA).

ACTION: Notice of funding opportunity.

SUMMARY: VA is announcing the availability of funds for suicide prevention grants under the Staff Sergeant Fox Suicide Prevention Grant Program (SSG Fox SPGP). The SSG Fox SPGP directs efforts to reduce Veteran suicide by awarding grants to community-based organizations to provide or coordinate the provision of primarily non-clinical suicide prevention services, including outreach and linkage to VA and community resources, to eligible individuals and their families. The SSG Fox SPGP furthers VA's public health approach to suicide prevention by combining community-based efforts with linkage to clinical care to prevent Veteran suicide for those inside and outside of VA health care. The goal of these grants is to reduce Veteran suicide risk by improving mental health status, well-being, financial stability, and social support for eligible individuals and their families.

DATES: Applications for suicide prevention services grants must be received by 4:59 p.m. Eastern Time on July 18, 2025. See Section IV of this NOFO for application submission information. VA is unable to receive any application after the deadline.

ADDRESSES: While all applications must be submitted electronically, copies of the application can be downloaded from the SSG Fox SPGP website at https://www.mentalhealth.va.gov/ssgfox-grants/. Questions should be referred to the SSG Fox SPGP via email at VASSGFoxGrants@va.gov. For detailed program information and requirements, see 38 CFR part 78 at https://www.ecfr.gov/current/title-38/chapter-I/part-78.

Technical Assistance: Information regarding how to obtain technical assistance with the preparation and submission of a suicide prevention grant application is available on the SSG Fox SPGP website at: https://www.mentalhealth.va.gov/ssgfox-grants/.

FOR FURTHER INFORMATION CONTACT: Ms. Sandra Foley, SSG Fox Suicide Prevention Grant Program Director, Office of Suicide Prevention, by email at VASSGFoxGrants@va.gov or phone at (202) 502-0002. (This is not a toll-free telephone number.)

SUPPLEMENTARY INFORMATION:

Funding Opportunity Title: Staff Sergeant Fox Suicide Prevention Grant Program.

Announcement Type: Initial.

Funding Opportunity Number: VA-FOX-SP-FY2026.

Assistance Listing Number: 64.055 Staff Sergeant Fox Suicide Prevention Grant Program.

Eligible applicants are organizations that meet the definition of an eligible entity in section 201(q)(3) of the Commander John Scott Hannon Veterans Mental Health Care Improvement Act of 2019 (Hannon Act), codified at 38 U.S.C. 1720F note. These may include incorporated private institutions or foundations for which no part of the net earnings incur to the benefit of any individual and that have a governing board responsible for the operation of the suicide prevention services provided under the SSG Fox SPGP; corporations wholly owned by incorporated private institutions or foundations meeting the requirements listed above; Indian tribes; community-based organizations that can effectively network with local civic organizations, regional health systems, and other settings where eligible individuals and their families are likely to have contact; and state or local governments.

This Notice of Funding Opportunity (NOFO) assumes that Congress will extend the authority and appropriate funds consistent with section 201 of the Hannon Act as currently written. The NOFO contains information concerning the SSG Fox SPGP; the renewal and new suicide prevention grant application processes; and the amount of funding available. Awards made for suicide prevention grants will fund operations beginning on September 30, 2025, if the authority granted by section 201 of the Hannon Act is extended and funds are appropriated. This is a one-year award with the option to renew for an additional year, pending availability of funds and grantee performance. For detailed program information and requirements, see part 78 of title 38, Code of Federal Regulations (38 CFR part 78).

Note: This Notice of Funding Opportunity (NOFO) replaces the NOFO published on May 8, 2025 at 90 FR 19596).

Before You Begin: If you believe you are a good candidate for this grant, secure your SAM.gov and Grants.gov registrations now, as these can take up to ten days or more to become active. See https://sam.gov/sites/default/files/2024-11/entity-checklist.pdf for a checklist on what you will need to register in SAM. Grants.gov guidance is available at https://www.grants.gov/applicants/applicant-registration.

A web version of the VA—FSC Vendor File Request Form must be submitted through the VA Customer Engagement Portal at https://www.cep.fsc.va.gov by the application deadline stated in this NOFO. Ensure that the information provided on this form aligns with the information listed in SAM.gov. This form is required for all applicants. Proof of registration should be included in the application packet.

Funding Details: This NOFO announces the availability of funds for suicide prevention grants under the SSG Fox SPGP for services in federal Fiscal Year (FY) 2026.

A. Funding Priorities: The funding priorities for this NOFO are as follows: Under Priority 1, the 93 current grantees may apply for a new grant award to continue to provide services within the scope of their current grant award; for purposes of 38 CFR part 78, these awards are considered renewals. Priority 1 applicants must apply using the renewal application. To be eligible for renewal of a suicide prevention grant, the Priority 1 applicants' current program must be performing satisfactorily and remain substantially the same. An increase to the funding amount or change in service area is considered a substantial change to the program concept. Renewal applications can request funding that is equal to or less than their current annualized award. If a Priority 1 applicant is not renewed, the existing grant will end on September 30, 2025.

Under Priority 2, VA will accept applications from eligible entities that are not current grantees for funding consideration. Priority 2 applicants must apply using the application materials designated for new applicants.

B. Allocation of funds: Approximately $52,500,000 is available for grant awards under this NOFO, subject to Congressional appropriations and extension of the authority to operate the SSG Fox SPGP. The maximum allowable grant size is $750,000 per year per eligible entity. The expected value of individual awards may range from $100,000 to $750,000. The expected number of total awards is 80-100. Priority 1 applicants may request an amount less than their current award; this will not be considered a substantial change to the program.

C. Grant Award Period: Grants awarded will be for a 1-year period starting September 30, 2025. Awards may be extended for up to one additional year pending availability of funding and grantee performance.

D. Risk Assessment: Per 2 CFR 200.206, VA will evaluate risks posed by applicants to include review of available information on financial stability, management systems and standards, history of performance, audit reports and findings, and ability to effectively implement requirements.

Eligibility

A. Eligible Applicants: Eligible applicants are organizations that meet the definition of an eligible entity in section 201(q)(3) of the Hannon Act:

(1) an incorporated private institution or foundation—(i) no part of the net earnings of which incurs to the benefit of any member, founder, contributor, or individual; and (2) that has a governing board that would be responsible for the operation of the suicide prevention services provided under this section;

(2) a corporation wholly owned and controlled by an organization meeting the requirements of clauses (i) and (ii) of subparagraph (A);

(3) an Indian tribe;

(4) a community-based organization that can effectively network with local civic organizations, regional health systems, and other settings where eligible individuals and their families are likely to have contact; or

(5) a State or local government.

Demonstration of eligibility as detailed in the application includes submission of documents as outlined in Section V of this NOFO.

Applicants must be registered in the System for Award Management (sam.gov) and provide a unique entity identifier and continue to maintain an active SAM registration with current information as per 2 CFR part 200. There is no limit to the number of applications that may be submitted.

B. Cost Sharing and Matching: Applicants are not required to submit proposals that contain sharing or matching funds.

Program Description

A. Funding Priorities: The principal goal of this NOFO is to seek entities that have demonstrated the ability to provide or coordinate Veteran suicide prevention services. VA will consider Priority 1 applications from renewal grantees according to 38 CFR 78.40 and Priority 2 applications from new applicants according to 38 CFR 78.30. Following the ranking and selection of renewal applicants, if remaining funds are available, they will be awarded pursuant to the following Priority 2.

B. Definitions: The regulations for the SSG Fox SPGP, published as an Interim Final Rule in the Federal Register on March 10, 2022 (https://www.federalregister.gov/documents/2022/03/10/2022-04477/staff-sergeant-parker-gordon-fox-suicide-prevention-grant-program), and codified in 38 CFR part 78, contain all detailed definitions and requirements pertaining to this program. A subsequent technical correction to the regulation was published in the Federal Register on March 22, 2022 (87 FR 16101, https://www.federalregister.gov/documents/2022/03/22/2022-05849/staff-sergeant-parker-gordon-fox-suicide-prevention-grant-program). VA adopted the Interim Final Rule as Final with changes on August 1, 2024 (89 FR 62659, https://www.federalregister.gov/documents/2024/08/01/2024-16586/staff-sergeant-parker-gordon-fox-suicide-prevention-grant-program). These changes are effective under this NOFO.

C. Approach: Suicide prevention services are those services that address the needs of eligible individuals and their families and are necessary for improving the mental health, well-being, financial status, and social support, and reducing the suicide risk of eligible individuals. All applicants must include in their application that they will provide or coordinate the required baseline mental health screening to all eligible individuals enrolled in grantee services. In addition, each application must include the proposed suicide prevention services to be provided or coordinated and the identified need for those services. Suicide prevention services may include:

Outreach to identify and engage eligible individuals at highest risk of suicide per 38 CFR 78.45:

(1) Grantees providing or coordinating the provision of outreach must use their best efforts to ensure that eligible individuals, including those who are at highest risk of suicide or who are not receiving health care or other services furnished by VA, and their families are identified, engaged, and provided suicide prevention services.

(2) Outreach must include active liaison with local VA facilities; state, local, or tribal government (if any); and private agencies and organizations providing suicide prevention services to eligible individuals and their families in the area to be served by the grantee.

Grantees identify eligible individuals for services in accordance with 38 CFR 78.10. Based on the suicide risk and eligibility screening conducted by grantees with VA provided tools, eligible individuals that should be considered at highest risk of suicide are those with a past suicide attempt or preparatory behavior for suicide, a recent hospitalization for suicidality, and recent or current suicidal thoughts. VA will provide access to the Columbia Suicide Severity Rating Scale (C-SSRS) to determine the level of suicide risk. Grantees are required to have a presence in the area to meet with individuals and organizations to create referral processes to the grantee and other community resources. VA requires that grantees coordinate with local VA facilities on a regular basis to coordinate the provision of health care and other services to eligible individuals.

Baseline mental health screening per 38 CFR 78.50: This baseline mental health screening ensures that the participant's mental health needs can be properly determined and that suicide prevention services are tailored to meet the individual's needs. VA provides access to the Patient Health Questionnaire (PHQ9), Generalized Self-Efficacy Scale (GSE), Interpersonal Support Evaluation List (ISEL-12), Socio Economic Status (SES) and the Warwick Edinburgh Mental Well Being Scale (WEMWBS) to all grantees. These five tools together comprise the baseline mental health screening. This service is required by all grantees.

If an eligible individual is at risk of suicide or other mental or behavioral health condition pursuant to the baseline mental health screening, the grantee must refer such individual to VA for care. When such referrals are made by grantees to VA, to the extent practicable, those referrals are required to be a “warm hand-off” to ensure that the eligible individual receives necessary care. This “warm hand-off” may include providing any necessary transportation to the nearest VA facility, assisting the eligible individual with scheduling an appointment with VA, and any other similar activities that may be necessary to ensure the eligible individual receives necessary care in a timely manner.

Apart from clinical services for emergency treatment under 38 CFR 78.60(a), funds provided under this grant program may not be used to provide clinical services (e.g., psychotherapy, psychiatry, medical care).

Education per 38 CFR 78.55: Education can include suicide prevention gatekeeper training, lethal means safety training, or specific education programs that assist communities, Veterans and families with the identification, assessment, or prevention of suicide. Gatekeeper training generally refers to programs that seek to develop individuals' knowledge, attitudes, and skills to prevent suicide. Gatekeeper training is an educational course designed to teach clinical and non-clinical professionals, or gatekeepers, the warning signs of a suicide crisis and how to respond and refer individuals for care. Learning the signs of suicide risk, how to reduce access to lethal means, and to connect those at risk of suicide to care can improve understanding of suicide and has the potential to reduce suicide.

Clinical services for emergency treatment per 38 CFR 78.60: Clinical services may be provided for emergency treatment of a participant. Applicants are encouraged to carefully review the definition of emergency treatment in 78.60(d), which could include emergency mental health conditions, and is characterized by acute symptoms of sufficient severity requiring immediate attention. If a participant is furnished clinical services for emergency treatment and requires ongoing services, the grantee must refer eligible individuals to VA and family members to appropriate non-VA services for additional care.

Case management services per 38 CFR 78.65: Case management services are focused on suicide prevention to effectively assist participants at risk of suicide based on their assessed needs.

Peer support services per 38 CFR 78.70: Grantees providing or coordinating peer support must do so to help participants understand what resources and supports are available in their area for suicide prevention. Peer support services that are provided must be provided by veterans trained in peer support with similar lived experiences related to suicide or mental health. Peer support specialists are members of an interdisciplinary team and serve as role models and a resource to assist participants with their mental health recovery. Peer support services by a trained peer support specialist differ from other service offerings that merely include peers. Qualification standards for peer specialists include the criteria from 38 U.S.C. 7402 that the individual is (1) a veteran who has recovered or is recovering from a mental health condition, and (2) certified by (i) a not-for-profit entity engaged in peer support specialist training as having met such criteria as VA shall establish for a peer support specialist position, or (ii) a state as having satisfied relevant state requirements for a peer support specialist position. VA has further set forth qualifications for its peer specialists in VA Handbook/Directive 5005, Staffing (Part II, Appendix F3, last updated September 30, 2021; https://www.va.gov/vapubs/viewPublication.asp?Pub_ID=1479&FType=2).

Assistance in obtaining VA benefits per 38 CFR 78.75: This assistance will provide participants with additional means of awareness and linkage to available VA benefits such as (1) vocational and rehabilitation counseling; (2) supportive services for homeless Veterans; (3) employment and training services; (4) educational assistance; and (5) health care services. Grantees are not permitted to represent participants before VA with respect to a claim for VA benefits unless they are recognized for that purpose pursuant to 38 U.S.C. 5902. Employees and members of grantees are not permitted to provide such representation unless the individual providing representation is accredited pursuant to 38 U.S.C. chapter 59.

Assistance in obtaining and coordinating other public benefits and assistance with emergent needs per 38 CFR 78.80: Grantees providing this service assist participants in obtaining and coordinating benefits that are provided by Federal, state, local, or tribal agencies, or any other grantee in the area served by the grantee, by referring the participant to and coordinating with such entity.

Public benefits and assistance that grantees may provide participants referrals to include: health care services, which include (1) health insurance and (2) referrals to a governmental entity or grantee that provides (i) hospital care, nursing home care, outpatient care, mental health care, preventive care, habilitative and rehabilitative care, case management, respite care, home care, (ii) the training of any eligible individual's family in the care of any eligible individual, and (iii) the provision of pharmaceuticals, supplies, equipment, devices, appliances, and assistive technology. Grantees may also refer participants, as appropriate, to an entity that provides daily living services relating to the functions or tasks for self-care usually performed in the normal course of a day.

Grantees may provide directly or provide referrals for personal financial planning services; transportation services; temporary income support services (including, among other services, food assistance and housing assistance); fiduciary and representative payee services; legal services to assist eligible individuals with issues that may contribute to the risk of suicide; and childcare. For additional details on these elements, applicants should consult 38 CFR 78.80.

Nontraditional and innovative approaches and treatment practices per 38 CFR 78.85: Applicants may propose nontraditional and innovative approaches and treatment practices in their grant applications, providing adequate detail, and supplying evidence or outcomes supporting the services' effectiveness of improving mental health or mitigating a risk factor for suicidal thoughts and behavior. Nontraditional, innovative, and other services are still subject to the requirement that medical or clinical services are not fundable unless emergent, as under 38 CFR 78.60. VA reserves the right to approve or disapprove nontraditional and innovative approaches and treatment practices to be provided using funds authorized under the SSG Fox SPGP.

Other services per 38 CFR 78.90: Grantees may provide general suicide prevention assistance under this section for expenses specifically associated with gaining or keeping employment or lethal means safety and storage. This assistance may include payment directly to a third party (and not to a participant or their family), in an amount not to exceed $750 per participant during any 1-year period.

Applicants may propose additional suicide prevention services to be provided. Examples of other services may include, but are not limited to, adaptive sports; equine assisted therapy; in-place or outdoor recreational therapy; substance use reduction programming; non-clinical individual, group, or family counseling; and relationship coaching. VA reserves the right to approve or disapprove other services to be provided or coordinated to be provided using funds authorized under SSG Fox SPGP.

D. Authority: Funding applied for under this NOFO is authorized by section 201 of the Commander John Scott Hannon Mental Health Improvement Act (Pub. L. 116-171, “Hannon Act”). VA established and implemented this statutory authority for the SSG Fox SPGP in 38 CFR part 78. Funds made available under this NOFO are subject to the requirements of section 201 of Hannon Act, 38 CFR part 78, and other applicable laws and regulations. Awardees under this NOFO will comply with all laws, rules, regulations, and executive orders.

E. Performance Indicators: The goals of SSG Fox SPGP services are to reduce the Veteran participants' suicide risk and improve their mental health status, wellbeing, financial stability, and social support. Change scores in these domains are determined through pre- and post-service mental health screenings, which allow both an assessment of individual progress and collective impact of the grantee services. Each grantee proposes a program concept, budget, service area, and estimated number of individuals to be served based on their unique community's assessed needs. VA evaluates grantee performance in multiple areas, including but not limited to participant service outcome data, grantee alignment with program goals, demonstrated reach to populations at elevated risk for suicide and not currently served by VA, fiscal management, and timely responsiveness to information requested by VA.

F. Guidance for the use of VA suicide prevention grant funds: Consistent with section 201(o) of the Act, only grantees that are a state or local government or an Indian tribe can use grant funds to enter a subcontractor or “pass through” agreement with a community partner under which the grantee may provide funds to the community partner for the provision of services to eligible individuals and their families. However, all grantees may choose to enter contracts for goods or services because in some situations, resources may be more readily available at a lower cost, or they may only be available, from another party in the community.

Grantees may make qualifying payments directly to a third party on behalf of a participant in certain situations, including childcare, transportation, food, and housing per 38 CFR 78.80, and the general suicide prevention assistance described in 38 CFR 78.90.

Funds can be used to conduct outreach, educate, and connect with eligible individuals who are not engaged with VA services. Any outreach and education that is funded by SSG Fox SPGP should link directly back to a referral to the grantee's program for an opportunity to enroll the eligible individual in the program.

Funds must be used to screen for eligibility and suicide risk and enroll individuals in the program accordingly. Note that some individuals who come through the referral process may not engage in services. Grantees are expected to determine what referrals are appropriate for these individuals for follow up services. Funds must be used to coordinate and provide suicide prevention services, by the grantee, based on screening and assessment, including clinical services for emergency treatment.

Funds must also be used to evaluate outcomes and effectiveness related to suicide prevention services. Prior to providing suicide prevention services, grantees must verify, document, and classify each participant's eligibility for suicide prevention services. Grantees must determine and document each participant's degree of risk of suicide using tools identified in the suicide prevention services grant agreement. Grantees must also provide or coordinate the provision of a mental health screening to all eligible individuals they serve, when possible. This screening is done with VA-provided tools at intake and again when services are ending and is required of all grantees for each eligible individual served. Having this screening occur at the beginning and prior to services ending is important in evaluating the effectiveness of the services provided.

Grantees must document the suicide prevention services provided or coordinated, how such services are provided, the duration of the services, and any goals for the provision or coordination of such services. If the eligible individual wishes to enroll in VA health care, the grantee must inform the eligible individual of a VA point of contact for assistance with enrollment.

For each eligible individual enrolled in grantee services, grantees must develop and document an individualized plan with respect to the provision of suicide prevention services and based upon needs identified in the baseline screening. This plan must be developed in consultation with the participant.

Additional program guidance is available via the Program Guide, which may be downloaded from https://www.mentalhealth.va.gov/ssgfox-grants/.

Application Content and Format

A. Threshold Review: VA will only score applicants who meet the following threshold requirements as per 38 CFR 78.20: the application must be filed within the time period established in the NOFO, and any additional information or documentation requested by VA is provided within the time frame established by VA; the application must be completed in all parts; the activities for which the suicide prevention services grant is requested must be eligible for funding; the applicant's proposed participants must be eligible to receive suicide prevention services; the applicant must agree to comply with the requirements of 38 CFR part 78; the applicant must not have an outstanding obligation to the Federal Government that is in arrears and does not have an overdue or unsatisfactory response to an audit; and the applicant must not be in default by failing to meet the requirements for any previous Federal assistance. If these threshold requirements are not met, VA will deem applicants to be ineligible for further consideration.

B. Priority 1 (Renewals): VA's regulations at 38 CFR 78.35 describe the criteria that VA will use to score those grantees who are applying for renewal of a grant. Such criteria will assist with VA's review and evaluation of grantees to ensure that those grantees have successful existing programs using the previously awarded grant funds and that they have complied with the requirements of 38 CFR part 78 and section 201 of the Act. The criteria in § 78.35 ensure that renewals of grants are awarded based on the grantee's program's success, cost-effectiveness, and compliance with VA goals and requirements for this grant program. In addition to the application score, VA's ongoing assessment of grantee performance is a factor in renewal decisions.

Using a weighted scoring method, the renewal application is organized into the following sections: Program Outcomes (maximum 55 points), Cost Effectiveness (maximum 20 points); Compliance with Program Goals and Requirements (25 maximum points); Exhibits (no point values).

VA will use the following criteria to score grantees applying for renewal of a suicide prevention services grant:

(1) the success of the grantee's program, as demonstrated by progress on program goals via outcome measures and surveys.

(2) the cost-effectiveness of the grantee's program.

(3) the extent to which the grantee's program complies with SSG Fox SPGP goals and requirements.

The Exhibit section includes an applicant budget template, to be submitted in a VA provided Microsoft Excel file. The budget submission must include: (1) Annual budget, attached as Exhibit I, and (2) a Budget Narrative, which provides a description of each of the line items contained in the renewal application.

C. Priority 2 (New Applicants): VA's regulations at 38 CFR 78.25 describe the criteria that VA will use to score new applications. Applicants must include all required documents in their application submission. Required documents include the completed budget template, organizational chart, key personnel resumes, hiring criteria for proposed staff, and documentation to verify eligible entity type. Submission of an incorrect, incomplete, inconsistent, unclear, or incorrectly formatted application package will result in the application being rejected.

Using a weighted scoring method, VA will use the following criteria to score applicants who are applying for a new suicide prevention services grant:

(1) the background, qualifications, experience, and past performance of the applicant and any community partners identified by the applicant in the suicide prevention services grant application. (maximum 30 points)

(2) the applicant's program concept and suicide prevention services plan, to include projected number of eligible individuals to be served. Note: program concepts proposing primarily or exclusively unallowed services, such as non-emergent clinical care, will not be considered. (maximum 30 points)

(3) the applicant's quality assurance and evaluation plan. (maximum 15 points)

(4) the applicant's financial capability and plan. (maximum 15 points)

(5) the applicant's area linkages and relations with federal, state, local, or tribal governments or private entities that can enhance services and program effectiveness. (maximum 10 points)

The Exhibit section includes an applicant budget template, to be submitted in a VA provided Microsoft Excel file. The budget submission must include: 1) Annual budget, attached as Exhibit I and 2) a Budget Narrative, which provides a description of each of the line items contained in the application.

Submission Requirements and Deadlines

Obtaining an Application Package: Initial and renewal applications are accessed via the electronic grants management system described at https://www.mentalhealth.va.gov/ssgfox-grants/. Any questions regarding this process should be referred to SSG Fox SPGP via email at VASSGFoxGrants@va.gov. For detailed program information and requirements, see 38 CFR part 78. Note, this opportunity is not subject to Intergovernmental Review per executive order 12372.

Form of Application: Applicants must submit applications electronically following instructions found at https://www.mentalhealth.va.gov/ssgfox-grants/. Applications may not be mailed, hand carried, or sent by facsimile.

Submission Date and Time: Applications for suicide prevention grants under SSG Fox SPGP must be received by 4:59 p.m. Eastern Time on July 18, 2025. Awards will fund operations beginning September 30, 2025. Applications must arrive as a complete package. Materials arriving separately will not be included in the application package for consideration and may result in the application being rejected. Additionally, in the interest of fairness to all competing applicants, this deadline is firm as to date and hour. Applicants should take this practice into account and make early submission of their materials to avoid any risk of loss of eligibility brought about by unanticipated delays, computer service outages, or other delivery-related problems. Please see the contact information in Section I. Basic Information of this Notice for any technical questions or difficulties with submission.

Funding Restrictions: Funding will be awarded under this NOFO to existing grantees and new applicants (pending the availability of funds), for services beginning September 30, 2025. In addition to limitations set forth in law and regulation, the following restrictions apply:

(1) Funding cannot be used for construction.

(2) Funding cannot be used for vehicle purchases.

(3) Funding cannot be used for food for staff unless part of per diem travel.

(4) Funding cannot be used for direct cash assistance to participants and their families.

(5) Funding cannot be used for legal services prohibited pursuant to § 78.80(g).

(6) Funding cannot be used for medical, clinical, or dental care and medicines except for clinical services for emergency treatment authorized pursuant to § 78.60.

(7) Funding cannot be used for any activities considered illegal under Federal law, and any costs identified as unallowable per 2 CFR part 200, subpart E.

Application Review Information

A. Review Process: Grant applications will be scored by a VA grant review committee that will be trained in understanding the program's goals, the requirements of the NOFO, VA's regulations for this Program (38 CFR part 78), and the prescribed scoring rubrics in 38 CFR 78.25 and 38 CFR 78.35 (pursuant to 2 CFR part 200). Consistent with 38 CFR 78.40, if all available grant funds are awarded to renewal grants for existing grantees, no new applications will be awarded.

Applications must receive at least 60 points and at least one point under each of the criteria noted above in Section IV of this NOFO. Renewal applicants must also be assessed by VA as having at minimum, satisfactory performance under the terms of their current grant agreement. After selection of renewal applicants, if there is funding available, VA will score and rank all new applicants who score at least 60 cumulative points and receive at least one point under each of the criteria noted above in Section IV of this NOFO.

VA will utilize the ranked scores of new applicants as the primary basis for selection. The applicants will be ranked in order from highest to lowest. However, VA will give preference to applicants that have demonstrated the ability to provide or coordinate suicide prevention services.

To the extent practicable, VA will ensure that suicide prevention services grants are distributed to:(i) Provide services in areas of the United States that have experienced high rates of suicide by eligible individuals; (ii) Applicants that can assist eligible individuals at risk of suicide who are not currently receiving health care furnished by VA; and (iii) Ensure that suicide prevention services are provided in as many areas as possible.

Award Notices

A. Award Notices: Although subject to change, VA expects to announce grant awards in the fourth quarter of federal FY 2025. VA reserves the right in any year to adjust (e.g., to funding levels) as needed within the intent of the NOFO based on a variety of factors, including the availability of funding. The initial announcement of awards will be made via a news release posted on VA's SSG Fox SPGP website at https://www.mentalhealth.va.gov/ssgfox-grants. The SSG Fox SPGP will concurrently notify both successful and unsuccessful applicants. Only a grant agreement with a VA signature is evidence of an award and is an authorizing document allowing costs to be incurred against a grant award. Other notices, letters, or announcements are not authorizing documents. The grant agreement includes the terms and conditions of the award and must be signed by the entity and VA to be legally binding.

Post-Award Requirements and Administration

A. Administrative and National Policy Requirements: VA places great emphasis on responsibility and accountability. VA has procedures in place to monitor grants provided under the SSG Fox SPGP. All applicants selected in response to this NOFO must agree to meet applicable inspection standards outlined in the grant agreement.

Applicants selected in response to this NOFO shall notify SSG Fox SPGP of the start and end dates of their fiscal years, the amount of any other Federal awards they have received since the beginning of the fiscal year during which the application was submitted, the dates of those awards, and whether they have undergone an audit in accordance with 31 U.S.C. chapter 75.

As SSG Fox SPGP grants cannot be used to fund treatment for mental health or substance use disorders, except for clinical services for emergency treatment, applicants must provide evidence that they can provide access to such services to all program participants through both collaboration with local VA medical facilities, and formal and informal agreements with community providers.

B. Reporting and Monitoring: Applicants should be aware of the following:

(1) Upon execution of a suicide prevention services grant agreement with VA, grantees will have a liaison appointed by the SSG Fox SPGP who will provide oversight and monitor the use of funds to provide or coordinate suicide prevention services provided to participants.

(2) VA will require that grantees use validated tools and assessments furnished by VA to determine the effectiveness of the suicide prevention services. These include any measures and metrics developed and provided by VA for the purposes of measuring the effectiveness of the programming in improving mental health status, well-being, financial stability, and social support, and in reducing suicide risk of eligible individuals. Grantees will be required to use the VA Data Collection Tool for this purpose.

(3) Grantees must provide each participant with a satisfaction survey, which the participant can submit directly to VA, within 30 days of such participant's pending exit from the grantee's program. This is required to assist VA in evaluating grantees' performance and participants' satisfaction with the suicide prevention services they receive.

(4) Monitoring will also include the submission of periodic and annual financial and performance reports by the grantee in accordance with 2 CFR part 200. The grantee will be expected to demonstrate adherence to the grantee's proposed program concept, as described in the grantee's application or in any approved revisions.

(5) VA has the right, at all reasonable times, to make onsite visits to all grantee locations and have virtual meetings where a grantee is using suicide prevention services grant funds to review grantee accomplishments and management control systems and to provide such technical assistance as may be required.

C. Payments to Grantees: Grantees will receive payments electronically through the U.S. Department of Health and Human Services Payment Management System. Grantees will have the ability to request payments as frequently as they choose. Grantees must have internal controls in place to ensure funding is available for the full duration of the grant period of performance, to the extent possible. As described in 38 CFR 78.140, costs for administration by a grantee will be consistent with 2 CFR part 200.

D. Program Evaluation: The purpose of program evaluation is to evaluate the impact participation in the SSG Fox SPGP has on eligible individuals' financial stability, mental health status, well-being, suicide risk, and social support, as required by the Act.

As part of the national program evaluation, grantees must input data regularly in VA's web-based Data Collection Tool. VA will ensure grantees have access to the data they need to gather and summarize program impacts and lessons learned on the implementation of the program evaluation criteria; performance indicators used for grantee selection and communication; and the criteria associated with the best outcomes for Veterans.

Training and technical assistance for program evaluation will be provided by VA, which will coordinate with subject matter experts to provide various trainings, including the use of measures and metrics required for this program.

Signing Authority

Douglas A. Collins, Secretary of Veterans Affairs, approved and signed this document on May 8, 2025, and authorized the undersigned to sign and submit the document to the Office of the Federal Register for publication electronically as an official document of the Department of Veterans Affairs.

Jeffrey M. Martin,
Assistant Director, Office of Regulation Policy & Management, Office of General Counsel, Department of Veterans Affairs.

[FR Doc. 2025-08537 Filed 5-14-25; 8:45 am]

BILLING CODE 8320-01-P